RAILROAD RETIREMENT BOARD

Proposed Collection; Comment Request

Summary: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Placement Service; OMB 3220-0057.

Section 12(i) of the Railroad Unemployment Insurance Act (RUIA), authorizes the RRB to establish, maintain, and operate free employment offices to provide claimants for unemployment benefits with job placement opportunities. Section 704(d) of the Regional Railroad Reorganization Act of 1973, as amended, and as extended by the Consolidated Omnibus Budget Reconciliation Act of 1985, required the RRB to maintain and distribute a list of railroad job vacancies, by class and craft, based on information furnished by rail carriers to the RRB. Although the requirement under the law expired effective August 13, 1987, the RRB has continued to obtain this information in keeping with its employment service responsibilities under Section 12(k) of the RUIA. Application procedures for the job placement program are prescribed in 20 CFR part 325. The procedures pertaining to the RRB's obtaining and distributing job vacancy reports furnished by rail carriers are described in 20 CFR 346.1.

The RRB currently utilizes four forms to obtain information needed to carry out its job placement responsibilities. Form ES-2, Central Register Notification, is used by the RRB to obtain information needed to update a computerized central register of separated and furloughed railroad employees available for employment in the railroad industry. Forms ES-21, Referral to State Employment Service, and ES-21c, Report of State Employment Service Office, are used by the RRB to provide placement assistance for unemployed railroad employees through arrangements with State Employment Service offices. Form UI-35, Field Office Record of Claimant Interview, is used primarily by RRB field office staff to conduct in-person interviews of claimants for unemployment benefits. Completion of these forms is required to obtain or maintain a benefit. In addition, the RRB also collects Railroad Job Vacancies information received voluntarily from railroad employers. No changes are proposed to any of the data collection instruments associated with the information collection.

Estimate of Annual Respondent Burden
[The estimated annual respondent burden is as follows]
Form No. | Annual responses | Time (minutes) | Burden (hours)
ES-2 | 7,500 | .25 | 31
ES-21 | 3,500 | .68 | 40
ES-21c | 1,250 | 1.50 | 31
*UI-35 in person | 9,000 | 7.00 | 1,050
*UI-35 by mail | 1,000 | 10.50 | 175
Job Vacancies | 750 | 10.00 | 125
Total | 23,000 |  | 1,452

2. Title and purpose of information collection: Withholding Certificate for Railroad Retirement Monthly Annuity Payments; OMB 3220-0149.

The Internal Revenue Code requires that all payers of tax liable private pensions to U.S. citizens or residents: (1) Notify each recipient at least concurrent with initial withholding that the payer is, in fact, withholding benefits for tax liability and that the recipient has the option of electing not to have the payer withhold, or to withhold at a specific rate; (2) withhold benefits for tax purposes (in the absence of the recipient's election not to withhold benefits); and (3) notify all beneficiaries, at least annually, that they have the option to change their withholding status or elect not to have benefits withheld.

The RRB provides Form RRB-W4P, Withholding Certificate for Railroad Retirement Payments, to its annuitants to exercise their withholding options. Completion of the form is required to obtain or retain a benefit. One response is requested of each respondent. No changes are proposed to Form RRB W-4P.

The RRB estimates that 25,000 annuitants utilize Form RRB W-4P annually. The completion time for Form RRB W-4P varies depending on individual circumstances. The estimated average completion time for Form RRB W-4P is 39 minutes for recordkeeping, 24 minutes for learning about the law or the form, and 59 minutes for preparing the form.

3. Title and purpose of information collection: Investigation of Claim for Possible Days of Employment; OMB 3220-0196.

Under Section 1(k) of the Railroad Unemployment Insurance Act (RUIA), unemployment and sickness benefits are not payable for any day remuneration is payable or accrues to the claimant. Also Section 4(a-1) of the RUIA provides that unemployment or sickness benefits are not payable for any day the claimant receives the same benefits under any law other than the RUIA. Under the Railroad Retirement Board (RRB) regulation 20 CFR 322.4(a), a claimant's certification or statement on an RRB-provided claim form that he or she did not work on any day claimed and did not receive income such as vacation pay or pay for time lost for any day claimed is sufficient evidence unless there is conflicting evidence. Further, under 20 CFR 322.4(b), when there is a question raised as to whether or not remuneration is payable or has accrued to a claimant with respect to a claimed day or days, investigation shall be made with a view to obtaining information sufficient for a finding.

Form ID-5S (SUP), Report of Cases for Which All Days Were Claimed During a Month Credited Per an Adjustment Report, collects information about compensation credited to an employee during a period when the employee claimed either unemployment or sickness benefits from a railroad employer. The request is generated as a result of a computer match that compares data which is maintained in the RRB's RUIA Benefit Payment file with data maintained in the RRB's records of service. The ID-5S (SUP) is generated annually when the computer match indicates that an employee of the railroad employer was paid unemployment or sickness benefits for every day in one or more months for which creditable compensation was adjusted at the request of their railroad employer on RRB Form BA-4 (OMB Approved 3220-0008).

The computer-generated Form ID-5S (SUP) includes pertinent identifying information, the BA-4 adjustment process date, and the claimed months in question. Space is provided on the report for the employer's use in supplying the information requested in the computer-generated transmittal letter, Form ID-5S, Railroad Compensation Adjustment Discrepancy Report, which accompanies the report. Completion time is estimated at 10 minutes. One response is requested of each respondent. The RRB proposes no changes to Form ID-5S(SUP).

Estimate of Annual Respondent Burden
[The estimated annual respondent burden is as follows]
Form No. | Annual responses | Time (minutes) | Burden (hours)
ID-5S (SUP) | 55 | 10 | 9
Total | 55 |  | 9

4. Title and purpose of information collection: Designation of Contact Officials; 3220-0200.

Coordination between railroad employers and the RRB is essential to properly administer the payment of benefits under the Railroad Retirement Act (RRA) and the Railroad Unemployment Insurance Act (RUIA). In order to enhance timely coordination activity, the RRB utilizes Form G-117a, Designation of Contact Officials. Form G-117a is used by railroad employers to designate employees who are to act as point of contact with the RRB on a variety of RRA and RUIA-related matters.

Completion is voluntary. One response is requested from each respondent. The RRB proposes no changes to Form G-117a.

Estimate of Annual Respondent Burden
[The estimated annual respondent burden is as follows]
Form No. | Annual responses | Time (minutes) | Burden (hours)
G-117a | 100 | 15 | 25
Total | 100 |  | 25

Additional Information or Comments: To request more information or to obtain a copy of the information collection justification, forms, and/or supporting material, contact Dana Hickman at (312) 751-4981 or Dana.Hickman@RRB.GOV. Comments regarding the information collection should be addressed to Charles Mierzwa, Railroad Retirement Board, 844 North Rush Street, Chicago, Illinois 60611-2092 or emailed to Charles.Mierzwa@RRB.GOV. Written comments should be received within 60 days of this notice.

Charles Mierzwa,
Chief of Information Resources Management.

[FR Doc. 2013-26538 Filed 11-5-13; 8:45 am]

BILLING CODE 7905-01-P